LIBRARY OF CONGRESS

U.S. Copyright Office

37 CFR Parts 201 and 204

[Docket No. 2016-7]

Removal of Personally Identifiable Information From Registration Records

AGENCY: U.S. Copyright Office, Library of Congress.

ACTION: Notice of proposed rulemaking.

SUMMARY: The United States Copyright Office (“Office”) is proposing new rules related to personally identifiable information (“PII”) that may be found in the Office's registration records. First, the proposed rule will allow an author, claimant of record, or the authorized agent of the author or claimant of record, to request the removal of certain PII that is requested by the Office and collected on a registration application, such as home addresses or personal phone numbers, from the Office's internet-accessible public catalog, while retaining it in the Office's offline records as required by law. Second, the proposed rule will codify an existing practice regarding extraneous PII that applicants erroneously include on registration applications even though the Office has not requested it, such as driver's license numbers, social security numbers, banking information, and credit card information. Under the proposed rule, the Office would, upon request, remove such extraneous PII both from the Office's internet-accessible public catalog and its offline records.

DATES: Written comments must be received no later than 11:59 p.m. Eastern Time on October 17, 2016.

ADDRESSES: For reasons of government efficiency, the Copyright Office is using the regulations.gov system for the submission and posting of public comments in this proceeding. All comments are therefore to be submitted electronically through regulations.gov. Specific instructions for submitting comments are available on the Copyright Office Web site at http://copyright.gov/rulemaking/pii/. If electronic submission of comments is not feasible due to lack of access to a computer and/or the internet, please contact the Office using the contact information below for special instructions.

FOR FURTHER INFORMATION CONTACT: Cindy Abramson, Assistant General Counsel, by email at ciab@loc.gov, or Abioye Mosheim, Attorney Advisor, by email at abmo@loc.gov. Each can be contacted by telephone by calling 202-707-8350.

SUPPLEMENTARY INFORMATION:

I. Background

This proposed rule would create procedures to request removal of certain “personally identifiable information” (“PII”) from the Office's registration records. PII is generally considered to be any information that has the potential to identify a specific individual. The proposed rule concerns two distinct categories of PII as discussed below.

The Office requests and receives certain types of PII during the registration process (e.g., dates of birth, addresses, telephone numbers, fax numbers, and email addresses). The collection of some of that information is mandated by statute or regulation; other information is optional.¹ This information is referred to herein as “requested PII.”

¹ The Copyright Act requires the Office to gather the name and address of the copyright claimant; the name of the author(s), for works that are not anonymous or pseudonymous; the nationality or domicile of the author(s); and the date(s) of death for deceased author(s). See 17 U.S.C. 409. The Act also gives the Register of Copyrights the authority to require applicants to supply any other information “bearing upon the preparation or identification of the work or the existence, ownership, or duration of copyright.” Id.

The Office does not request, but sometimes receives, additional PII when applicants choose to include information such as driver's license numbers, social security numbers, banking information, and credit card information on their registration applications. Such information is extraneous and unnecessary for the processing and maintenance of copyright registration records. This information is referred to herein as “extraneous PII.”

As explained below, this proposed rule would treat these two categories of PII differently.

With respect to requested PII—information that the Copyright Office purposely collects as part of registration—the Copyright Act imposes certain obligations on the Office to preserve that information as part of the public record. The Act requires the Register to ensure that “records of . . . registrations . . . are maintained, and that indexes of such records are prepared,” and that “[s]uch records and indexes . . . be open to public inspection,” thus creating a public record. 17 U.S.C. 705(a), 705(b). The public record of copyright registrations serves several important functions. Chief among these is that the record provides essential facts relevant to the copyright claim and information that a potential user of a copyrighted work can use to locate the work's owner. The registration record can also be a valuable aid for determining the term of copyright protection, by providing information such as the author's date of death, the publication date for the work, or the year of creation of the work.

A separate provision of the Act requires the Register of Copyrights to “compile and publish . . . catalogs of all copyright registrations.” 17 U.S.C. 707(a). For most of the Office's history, this catalog was maintained in paper form as the Catalog of Copyright Entries (“CCE”). Starting in 1994, however, the Office began providing the public with access to a computerized database of post-1977 copyright registration and recordation catalog entries via the internet. Then, in 1996, the Office decided to end publication of the printed CCE and publish copyright registration information solely via an online public catalog. See 61 FR 52465 (Oct. 7, 1996).

Initially, the PII revealed in the online public catalog was limited to names and, when volunteered, the author's year of birth. By 2007, however, with the advent of the Copyright Office's online registration system (“eCO”), a broader range of PII was pushed from the Office's registration records into the online public catalog, including the postal address of the claimant, and the name, postal address, email address and phone number of the person authorized to correspond about, and/or provide rights and permission to use, the registered work. See 72 FR 36883, 36887 (July 6, 2007). The current online public catalog, however, does not contain all of the information that is contained in the Office's full registration records. For instance, the online public catalog currently does not include the text of correspondence between the Office and the applicant. This information is maintained solely in the Office's offline records, although members of the public can obtain copies of it by making a request to the Office.

In addition, while the information in the online public catalog initially could only be searched and retrieved via the Office's Web site, in 2007 third parties began harvesting registration information, including PII, from the catalog, and posting that information on alternative Web sites, which were then indexed by search engines. As a result, authors and claimants began noticing their personal information appearing in internet search results, and began asking the Office to remove that information from the Office's online public catalog.

In 2008, the Office published a list of frequently asked questions (“FAQs”) on privacy to address some of these concerns.² In the FAQs, the Office stressed that, by statute, it was required to collect certain information as part of the registration application and maintain it as part of its public records. The FAQs advised the public that if they did not wish sensitive personal information to appear in the online public catalog, they should refrain from providing it during the registration process, if possible. Applicants were advised to instead consider providing non-personal information, such as information about a third-party agent, a post office box, or a non-personal email address. But the Office warned that, if the applicant provided personal information, it would be included in the online public catalog. Both the Web page to log in to the online registration system and the Web page to download paper application forms include links to the privacy FAQs. See eCO Registration System, Privacy: Copyright Public Records, http://www.copyright.gov/eco/; Forms, http://www.copyright.gov/forms/; see also U.S. Copyright Office, Compendium of U.S. Copyright Office Practices 205 (3d ed. 2014).

² See U.S. Copyright Office, Privacy: Copyright Public Records, http://www.copyright.gov/help/faq/faq-privacy.html.

The Office's practices have differed with respect to extraneous PII—such as driver's license numbers, social security numbers, credit card information, and banking information—that applicants sometimes include on registration applications, even though the application does not require or request such information. Given the particular sensitivity of that information, and the fact that it is not requested as part of the registration application, the Office has developed an informal practice of removing extraneous PII from its registration records, including the online public catalog and the offline records, for no fee. During the registration process, the Office may remove extraneous PII, particularly if it is sensitive information, on its own volition. After the registration is complete, the Office will remove extraneous PII upon request. See Compendium (Third) 1804.2 (“If the registration specialist discovers a social security number, driver's license number, credit card number, or bank account number in the application, he or she will remove that information from the record without communicating with the applicant [and] [i]f this information is not discovered during the examination process . . . [t]he Office will remove [it] upon written request.”).

II. Discussion

Since issuing its FAQs on privacy in 2008, the Office has continued to receive occasional requests to remove PII that the Office regularly collects as part of the registration application, such as home addresses, from the online registration records. In light of these requests, the Office is now proposing to amend its rules in two main respects.

First, as explained in detail below, the Office proposes to add a new rule allowing authors and claimants to request the removal of requested PII from the online public catalog only, and replace it with non-personal information. The original information would be maintained in the Office's offline records and would be available for public inspection by visitors to the Copyright Office and upon request, consistent with the Office's statutory responsibilities to “maintain” such records and make them available to the public. 17 U.S.C. 705(a), 705(b). In proposing the rule, the Office seeks to strike an appropriate balance between the public's interest in a robust online record and concerns of privacy and safety in individual cases.

Second, the proposed rule would codify the Office's existing practice of removing extraneous PII—such as driver's license numbers, social security numbers, banking information, and credit card information—from both the offline records and the online public catalog. The Office is also proposing a conforming amendment to its Privacy Act regulations.

A. Removal of Requested PII From the Online Public Catalog

Who may request removal. The proposed rule would permit an author, claimant of record, or the authorized representative of the author or claimant of record, to submit a request to remove certain PII related to a copyright registration from the Copyright Office's online registration records.

What may be removed. In general, the proposed rule would allow for the removal of requested PII contained in the online public catalog, including home addresses, personal telephone and fax numbers, and personal email addresses. But there are two important limitations. First, the proposed rule would not allow a claimant to eliminate address information from the online public catalog, but instead would only allow for the replacement of a home address with a verifiable substitute address, such as a current post office box or third-party address (e.g., “in care of” an agent or corporation). The reason for this restriction is that allowing the wholesale removal of a claimant address would impede the public's ability to contact a copyright owner to obtain permission to use the work.

Second, the proposed rule would not permit removal of an author or claimant's name from the online public catalog, or the replacement of an author or claimant's name with a pseudonym or an “anonymous” designation. Changing or removing a name is not necessary to prevent privacy invasions, as long as associated PII is removed. More fundamentally, allowing authors or claimants to alter their names in the online public catalog may lead to confusion regarding the term of copyright protection for the work. Under the Copyright Act, works by anonymous and pseudonymous authors have different terms of copyright protection than works by authors whose real name is revealed in the Office's records. The term for works by anonymous and pseudonymous authors is 95 years following the year of first publication, or 120 years following the year of creation, whichever term expires first. The term for works by authors whose real names are revealed in the Office's records is the life of the author plus 70 years. 17 U.S.C. 302(a), 302(c). In addition, the Act specifically contemplates that if the real name of the author of an anonymous or pseudonymous work is identified in the Office's records during the term of protection, then that work will receive the term of life plus 70 years. Id. at 302(c). But the statute does not provide for the reverse: It does not contemplate a work whose author is already known receiving the copyright term applicable to works by anonymous or pseudonymous authors if the author's real name is removed from the Office's records. Thus, if the proposed rule were to permit the removal of an author's real name from the online public catalog, or the substitution of a real name with a pseudonym, it would run contrary to the statutory scheme established by Congress, and would likely create confusion regarding the correct term of copyright.

Moreover, in at least some situations, removal of a claimant's name could also lead to confusion about the correct copyright term. For example, an anonymous author might inadvertently reveal his or her real name in the claimant section of the registration form, in which case it may be that the term for a known author applies, rather than the term for an anonymous or pseudonymous author.³ Although that concern may arise only in rare cases, any rule would have to account for this possibility and would, as a result, be difficult to administer. Accordingly, in light of the limited privacy concerns regarding the publication of author and claimant names unconnected to other forms of PII, and consistent with existing practices, the Office has provisionally concluded that the rule should not allow removal of author or claimant names from the online public catalog. See Compendium (Third) 615.3 (“The Office will not remove the author's name from the registration record once a certificate of registration has been issued.”).

³ One possible clue that the anonymous or pseudonymous author and the person listed in the claimant section are the same person might be if the “transfer” section of the registration form is left blank. Where the author and claimant are different people, the transfer section must indicate how the claimant came to obtain the copyright from the author. 17 U.S.C. 409(5).

Standard for removal of requested PII. Under the proposed rule, the standard the Office would employ in determining whether to grant a request to remove requested PII from the online public catalog will depend on whether the requester is asking simply to replace the PII in the online public catalog with verifiable, non-personally-identifiable substitute information, or whether the requester instead is asking to remove the PII without providing such substitute information.

If the requester provides the Office with verifiable, non-personally-identifiable substitute information, the Office would generally grant the request, unless it determines that the need to maintain the original information in the public record substantially outweighs the safety, privacy, or other stated concern.

By contrast, if the requester is not providing verifiable, non-personally-identifiable substitute information, the request will only be granted if the requester demonstrates that the safety, privacy, or other stated concern substantially outweighs the need for the information to remain in the public record. This higher standard is warranted because removing information entirely from the online public catalog would result in a diminished record available for search via the internet.

To satisfy the higher standard, a requester must provide more than a bare declaration that the author or claimant is concerned about his or her privacy or safety. For instance, a general statement such as, “I want to protect my privacy,” will not satisfy this requirement. Rather, a detailed explanation of why the request should be granted is required, such as a specific threat to safety or privacy. The more detail that is supplied by the requester, the more likely the Office is to accept the assertion on its face.

How to submit a request for removal of requested PII. PII removal requests must be in the form of a signed affidavit mailed to the U.S. Copyright Office's Associate Register of Copyrights and Director of Public Information and Education, and contain the following information:

• The copyright registration number(s). (A single affidavit may request removal of the same PII in multiple registration records, but as explained below, the $130 fee must be paid for each registration record.)

• The name of the author and/or claimant of record on whose behalf the request is made.

• Identification of the specific PII that is to be removed.

• If applicable, verifiable, non-personally-identifiable substitute information that should replace the PII to be removed.

• A statement providing the reasons supporting the request. If the requester is not providing verifiable, non-personally-identifiable substitute information to replace the PII to be removed, this statement must explain in detail the specific threat to personal safety or personal security, or other circumstances, supporting the request.

• The statement, “I declare under penalty of perjury that the foregoing is true and correct.”

• If the submission is by an authorized representative of the author or claimant of record, an additional statement, “I am authorized to make this request on behalf of [name of author or claimant of record].”

• The signature of the author, claimant of record, or the authorized representative of the author or claimant of record.

• The date on which the request was signed.

• A physical mailing address to which the Office's response may be sent (if no email address is provided).

• A telephone number.

• An email address (if available).

Requests to remove requested PII made by joint authors and claimants. Requests by a joint author or claimant will generally be treated as described above for a single author or claimant. In other words, a joint author or claimant may request removal of their own PII (though, obviously, not the removal of PII of their co-author or co-claimant). That having been said, the Office has some concern regarding joint authors or claimants that may initially have matching PII, such as a married couple or business partners that share office space. If such relationships were to dissolve, this rule could theoretically permit a joint author or claimant to remove critical contact information for the other author or claimant from the record. Based on this concern, the Office intends to review these requests on a case-by-case basis, but invites comments on this issue. Comments with specific examples or hypotheticals are preferred to general statements.

Review process. All written requests for the removal of requested PII from the online public catalog will be reviewed by the Associate Register of Copyrights and Director of the Office Public Information and Education, or his or her designee(s). All decisions granting or denying requests for the removal of requested PII from the online public catalog will be sent in writing to the author, claimant of record, or the authorized representative of the author or claimant of record at the address or email indicated in the request.

If the request is granted, the Office will act as expeditiously as possible to effectuate it. However, when a request to remove requested PII is denied, authorized persons may submit one request for reconsideration in writing and by mail, to the Office of the General Counsel within thirty (30) days from the date of the denial letter, along with the required fee.

Effect on the public record. When requests for the removal of requested PII are granted, the alteration will only be made in the online public catalog. A copy of the original registration record containing the PII will be kept on file in the Office away from public online view. A new certificate of registration reflecting the change will be issued. A note will be added to the basic registration record and made viewable in the online public catalog indicating the modification to the catalog. The note will contain a statement, such as “*Online record modified in response to PII request effective [date modified].”

As noted, the Office will not alter the original registration record, but will instead maintain it in its offline records. Members of the public would be able to access the original, unaltered records by visiting the Office in Washington, DC, and inspecting the offline records there. Members of the public would also, for a fee, be able to request reproductions of original registration records through the Office's Records, Research and Certification Section.

Although the Office contemplated allowing the removal of requested PII from its offline registration records as well its online public catalog, it has preliminarily concluded that the Copyright Act limits its authority to do so. Section 409 of the Copyright Act requires the Office to collect certain information on registration applications, and section 705 requires the Office to “maintain” records of those registrations, and make them available for public inspection. To allow parties to alter the original records and render the original information wholly unavailable for public inspection would appear to be contrary to this statutory mandate. The Act does not, however, mandate that copyright registrations records be published in full on the internet. Rather, the Office's online public catalog is principally a fulfillment of the statutory mandate in 17 U.S.C. 707 that the Office compile and publish catalogs of all copyright registrations. Section 707 gives the Office the discretion to determine “on the basis of practicability and usefulness” the form (and frequency) of the information that is published in these catalogs. The legislative history on section 707(a) contemplates a move from paper-based to electronic distribution of the catalog information:

Section 707(a) of the bill retains the present statute's basic requirement that the Register compile and publish catalogs of all copyright registrations at periodic intervals, but provides “discretion to determine, on the basis of practicability and usefulness, for the form and frequency of publication of each particular part.” This provision will in no way diminish the utility or value of the present catalogs, and the flexibility of approach, coupled with use of the new mechanical and electronic devices now becoming available, will avoid waste and result in a better product.

See H.R. Rep. No. 1476, 94th Cong., 2d Sess. 172 (1976).

Though the proposed rule's approach would still allow access to PII through offline means, we believe that preventing the online dissemination of that information will substantially alleviate privacy concerns. Access to the Office's offline records is limited, as described above. In contrast, information in the online public catalog is accessible for free at any time by anyone with an internet connection and can also be harvested through automatic processes.⁴

⁴ Nonetheless, the Office reiterates that the best way to keep PII from being included in the public record is to avoid providing it in a registration application when possible. In addition, this rule does not, and cannot, prevent third-party Web sites from collecting previously posted PII and making the information available online, even after the PII is removed from the Office's online public catalog.

Fees. Section 708(a) of title 17 authorizes the Register to fix fees for services, other than those enumerated in paragraphs (a)(1) through (9) of § 708(a), based on cost and without prior submission to Congress.⁵ See 17 U.S.C. 708(a). Fees for Office services that the Register has the discretion to establish based on cost and without Congressional review include fees for copying Office records, fees for mail and delivery services, and fees for special handling. See 79 FR 15910, 15916-17 (Mar. 24, 2014). With the rule proposed herein, the Office seeks to adopt new fees to recover costs associated with two new services: First, the process of considering initial requests for removal of PII from the online public catalog, and second, the process of reconsideration of denied requests.

⁵ Fees for core Office services such as registration of a claim, recording a transfer of copyright ownership or other document, issuance of a certificate of registration, and certain other services are to be submitted by the Register to Congress before they take effect. See 17 U.S.C. 708(a) and (b).

Based on a cost analysis, the Office believes that the fee for the initial request should each be established at $130 per registration record, and the fee for reconsideration of denied requests should be established at a flat $60 regardless of the number of registration records encompassed by the request for reconsideration.

The Office arrived at the $130 fee for initial requests by considering the time and labor required to review and process these requests, including the salaries of junior and senior staff who will take part in the review, draft the decisions, and perform the data entry; costs associated with docketing and responding to requests via U.S. mail; system costs related to entering changes into the online public catalog as well as updating the offline registration records; and costs associated with printing a new registration certificate. For example, for initial requests, senior Public Information and Education staff must review the initial requests, draft final decisions, then the Associate Register of Copyrights and Director of the Office of Public Information and Education must review and sign final decisions. When an initial request is granted, Registration Program staff must key the changes into the Office's online public catalog, and perform checks to ensure that the changes are accurately reflected in the online public catalog. For both initial requests and requests for reconsideration, the costs associated with processing the check or money order payments by the Office's accounting staff have been factored into the fee.

For reconsiderations, the costs associated with having an attorney advisor review the reconsideration letters and draft final decisions for review by and signature of the General Counsel and Associate Register of Copyrights amount to a flat fee of $60 per request, regardless of the number of registration records referenced in the request. If the Office grants the request for reconsideration, the costs associated with keying changes into the system and printing a new certificate would have already been covered by the fee that accompanied the initial request, and so they are not included in this fee.

Both fees are non-refundable.

B. Removal of Extraneous PII From Online and Offline Registration Records

As explained, the proposed rule would also codify the Office's existing practice of removing extraneous PII such as driver's license numbers, social security numbers, banking information and credit card information from the Office's online and offline records upon request. See Compendium (Third) 1804.2. Specifically, the proposed rule would allow, through a request made in writing (via hard copy or email) to the Associate Register of Copyrights and Director of the Office of Public Information and Education, the removal of extraneous PII such as driver's license numbers, social security numbers, banking information, and credit card information inadvertently included on a copyright registration application, at no cost. Such a request must contain the name of the author and/or claimant of record, the registration number associated with the record, and a description of the extraneous PII that is to be removed. Once the Office receives the request it will act as expeditiously as possible to remove the extraneous PII from both its online and offline public records. The Office will not include any notation of this action in its records. The Office will also continue its informal practice of affirmatively removing or redacting extraneous PII from registration forms if it is found during and following the examination process, although this practice is not codified in the proposed rule.

List of Subjects in 37 CFR Parts 201 and 204

Copyright, Information, Privacy, Records.

Proposed Regulations

For the reasons set forth in the preamble, the U.S. Copyright Office proposes to amend parts 201 and 204 of 37 CFR chapter II as follows:

PART 201—GENERAL PROVISIONS

1. The authority citation for part 201 continues to read, in part, as follows:

Authority: 17 U.S.C. 702.

2. In paragraph § 201.1, revise the section heading and add paragraph (c)(8) to read as follows:

§ 201.1 Communication with the Copyright Office.

* * * * *

(c) * * *

(8) Requests to remove PII from registration records. Requests to remove personally identifiable information from registration records pursuant to sections 201.2(e) and 201.2(f) should be addressed to: U.S. Copyright Office, Associate Register of Copyrights and Director of the Office of Public Information and Education, P.O. Box 70400, Washington, DC 20024-0400. Requests should be clearly labeled “Request to Remove Requested PII,” “Request for Reconsideration Following Denial of Request to Remove Requested PII,” or “Request to Remove Extraneous PII,” as appropriate.

3. In § 201.2, add paragraphs (e) and (f) to read as follows:

§ 201.2 Information given by the Copyright Office.

* * * * *

(e) Requests for removal of requested personally identifiable information from the online public catalog. (1) In general, an author, claimant of record, or the authorized representative of the author or claimant of record may submit a request to remove certain requested personally identifiable information (“PII”) related to a copyright registration from the Copyright Office's online public catalog by following the procedure set forth in paragraph (e)(3) of this section. Where the requester provides verifiable, non-personally-identifiable substitute information to replace the PII being removed, the Office will grant the request unless it determines that the need to maintain the original information in the public record substantially outweighs the safety, privacy, or other stated concern. If the requester does not provide verifiable, non-personally-identifiable substitute information, the Office will grant the request only if the safety, privacy, or other stated concern substantially outweighs the need for the information to remain in the public record. The Office will review requests by joint authors or claimants on a case-by-case basis.

(2) Categories of personally identifiable information that may be removed from the online public catalog include home addresses, personal telephone and fax numbers, and personal email addresses, except that:

(i) Requests for removal of driver's license numbers, social security numbers, banking information, credit card information and other extraneous PII covered by paragraph (f) of this section are governed by the provisions of that paragraph.

(ii) Requests to remove the address of a copyright claimant must be accompanied by a verifiable substitute address.

(iii) Names of authors or claimants may not be removed or replaced with a pseudonym.

(3) Requests for removal of PII from the online catalog must be in the form of an affidavit, must be accompanied by the non-refundable fee listed in § 201.3(c), and must include the following information:

(i) The copyright registration number(s).

(ii) The name of the author and/or claimant of record on whose behalf the request is made.

(iii) Identification of the specific PII that is to be removed.

(iv) If applicable, verifiable non-personally-identifiable substitute information that should replace the PII to be removed.

(v) A statement providing the reasons supporting the request. If the requester is not providing verifiable, non-personally-identifiable substitute information to replace the PII to be removed, this statement must explain in detail the specific threat to the individual's personal safety or personal security, or other circumstances, supporting the request.

(vi) The statement, “I declare under penalty of perjury that the foregoing is true and correct.”

(vii) If the submission is by an authorized representative of the author or claimant of record, an additional statement, “I am authorized to make this request on behalf of [name of author or claimant of record].”

(viii) The signature of the author, claimant of record, or the authorized representative of the author or claimant of record.

(ix) The date on which the request was signed.

(x) A physical mailing address to which the Office's response may be sent (if no email is provided).

(xi) A telephone number.

(xii) An email address (if available).

(4) Requests under this paragraph (e) must be mailed to the address listed in § 201.1(c).

(5) A properly submitted request will be reviewed by the Associate Register of Copyrights and Director of the Office Public Information and Education or his or her designee(s) to determine whether the request should be granted or denied. The Office will mail its decision to either grant or deny the request to the address indicated in the request.

(6) If the request is granted, the Office will remove the information from the online public catalog. Where substitute information has been provided, the Office will add that information to the online public catalog. In addition, a note indicating that the online record has been modified will be added to the online registration record. A new certificate of registration will be issued that reflects the modified information. The Office will maintain a copy of the original registration record on file in the Copyright Office, and such records shall be open to public inspection and copying pursuant to paragraphs (b), (c), and (d) of this section. The Office will also maintain in its offline records the correspondence related to the request to remove PII.

(7) Requests for reconsideration of denied requests to remove PII from the online public catalog must be made in writing within 30 days from the date of the denial letter. The request for reconsideration, and a non-refundable fee in the amount specified in § 201.3(c), must be mailed to the address listed in § 201.1(c). The request must specifically address the grounds for denial of the initial request. Only one request for reconsideration will be considered per denial.

(f) Requests for removal of extraneous PII from the public record. Upon written request, the Office will remove driver's license numbers, social security numbers, banking information, credit card information, and other extraneous PII that was erroneously included on a registration application from the public record. There is no fee for this service. To make a request, the author, claimant, or the authorized representative of the author or claimant, must submit the request in writing to the email address or mailing address listed in § 201.1(c). Such a request must name the author and/or claimant, provide the registration number(s) associated for the record in question, and give a description of the extraneous PII that is to be removed. Once the request is received, the Office will remove the extraneous information from both its online and offline public records. The Office will not include any notation of this action in its records.

4. In § 201.3, add paragraph (c)(19) to read as follows:

§ 201.3 Fees for registration, recordation, and related services, special services, and services performed by the Licensing Division.

* * * * *

(c) * * *

Registration, recordation and related services | Fees ($)
* * * * * * *
(19) Removal of PII from Registration Records:
(i) Initial request, per registration record | 130
(ii) Reconsideration of denied requests, flat fee | 60
* * * * * * *

* * * * *

PART 204—PRIVACY ACT: POLICIES AND PROCEDURES

5. The authority citation for part 204 continues to read as follows:

Authority: 17 U.S.C. 702; 5 U.S.C. 552(a).

6. Revise § 204.7 to read as follows:

§ 204.7 Request for correction or amendment of records.

(a) Any individual may request the correction or amendment of a record pertaining to her or him. Requests for the removal of requested personally identifiable information related to a copyright registration are governed by § 201.2(e) of this chapter. Requests for the removal of extraneous personally identifiable information, such as driver's license numbers, social security numbers, banking information, and credit card information from registration records are governed by § 201.2(f) of this chapter. With respect to the correction or amendment of all other information contained in a copyright registration, the set of procedures and related fees are governed by 17 U.S.C. 408(d) and § 201.5 of this chapter. With respect to requests to amend any other record that an individual believes is incomplete, inaccurate, irrelevant or untimely, the request shall be in writing and delivered either by mail addressed to the U.S. Copyright Office, Supervisory Copyright Information Specialist, Copyright Information Section, Attn: Privacy Act Request, P.O. Box 70400, Washington, DC 20024-0400, or in person Monday through Friday between the hours of 8:30 a.m. and 5 p.m., eastern time, except legal holidays, at Room LM-401, Library of Congress, U.S. Copyright Office, 101 Independence Avenue SE., Washington, DC 20559-6000. The request shall explain why the individual believes the record to be incomplete, inaccurate, irrelevant, or untimely.

(b) With respect to requests for the correction or amendment of records that are governed by this section, the Office will respond within 10 working days indicating to the requester that the requested correction or amendment has been made or that it has been refused. If the requested correction or amendment is refused, the Office's response will indicate the reason for the refusal and the procedure available to the individual to appeal the refusal.

Dated: September 8, 2016.
Sarang V. Damle,
General Counsel and Associate Register of Copyrights.

[FR Doc. 2016-22011 Filed 9-14-16; 8:45 am]

BILLING CODE 1410-30-P